ENVIRONMENTAL PROTECTION AGENCY

[FRL-9656-6]

Notice of Meeting of the Environmental Financial Advisory Board (EFAB), and Transit-Oriented Development Workshop

AGENCY: Environmental Protection Agency (EPA).

ACTION: Notice.

SUMMARY: The United States Environmental Protection Agency's (EPA) Environmental Financial Advisory Board (EFAB) will hold a meeting on May 22-23, 2012 and a Transit-Oriented Development Workshop on May 24, 2012. EFAB is an EPA advisory committee chartered under the Federal Advisory Committee Act (FACA) to provide advice and recommendations to EPA on creative approaches to funding environmental programs, projects, and activities. The purpose of the meeting is to hear from informed speakers on environmental finance issues, proposed legislation, Agency priorities and to discuss progress with work projects under EFAB's current Strategic Action Agenda.

Environmental Finance topics expected to be discussed include: clean air technology; tribal environmental programs; transit-oriented development; energy efficiency; green infrastructure; and drinking water pricing.

The meeting is open to the public, however, seating is limited. All members of the public who wish to attend the meeting should register in advance, no later than Monday, May 14, 2012.

DATES:

Tuesday, May 22, 2012 from 1 p.m.-5 p.m.,

Wednesday, May 23, 2012 from 8:30 a.m.-5 p.m., and

Thursday, May 24, 2012 from 9 a.m.-5 p.m.

ADDRESSES: The Westin Alexandria, 400 Courthouse Square, Alexandria, VA 22314.

Registration and Information Contact:

For information on access or services for individuals with disabilities, or to request accommodations for a disability, please contact Sandra Williams, U.S. EPA, at (202) 564-4999 or williams.sandra@epa.gov, at least 10 days prior to the meeting, to allow as much time as possible to process your request.

Members of the public who would like to attend the meeting please register on or before May 14, 2012 at: www.epa.gov/envirofinance/efabmtg.html.

Dated: March 30, 2012.
Joseph L. Dillon,
Director, Center for Environmental Finance.

[FR Doc. 2012-8503 Filed 4-6-12; 8:45 am]

BILLING CODE 6560-50-P